OFFICE OF THE UNITED STATES TRADE REPRESENTATIVE

Generalized System of Preferences (GSP): Notice Regarding the 2011 GSP Annual Product Review

AGENCY: Office of the United States Trade Representative.

ACTION: Notice.

SUMMARY: This notice announces which petitions submitted in connection with the 2011 GSP Annual Product Review have been accepted for further review. In addition, twelve cotton products will be reviewed for possible designation as eligible for GSP benefits for least-developed country beneficiaries of the GSP program. This notice also sets forth the schedule for submitting comments and for public hearings associated with the review of these petitions and products.

FOR FURTHER INFORMATION CONTACT: Tameka Cooper, GSP Program, Office of the United States Trade Representative, 600 17th Street NW., Room 422, Washington, DC 20508. The telephone number is (202) 395-6971, the fax number is (202) 395-9674, and the email address is Tameka_Cooper@ustr.eop.gov.

DATES: The GSP regulations (15 CFR Part 2007) provide the schedule of dates for conducting an annual review unless otherwise specified in a notice published in the Federal Register. The schedule for the 2011 GSP Annual Product Review is set forth below. Notification of any other changes will be published in the Federal Register.

March 6, 2012—Due date for submission of comments, pre-hearing briefs and requests to appear at the GSP Subcommittee Public Hearing on the 2011 GSP Annual Product Review.

March 20, 2012—GSP Subcommittee Public Hearing on all proposed or petitioned product additions and CNL waiver petitions accepted for the 2011 GSP Annual Product Review. The hearing will be held in Rooms 1 and 2, 1724 F St. NW., Washington, DC 20508, beginning at 9:30 a.m.

Late March 2012—A U.S. International Trade Commission (USITC) public hearing will be held on the probable economic effect of granting the proposed or petitioned product additions and CNL waiver petitions. (USITC will announce the date, time, and place of this hearing in a separate notice published in the Federal Register.)

April 10, 2012—Due date for submission of post-hearing comments or briefs in connection with the GSP Subcommittee Public Hearing.

Late May 2012—The USITC is scheduled to publish a public version of its report providing advice on the probable economic effect of the prospective addition of products and granting of CNL waiver petitions considered as part of 2011 GSP Annual Product Review. Comments on the USITC report on these products will be due 10 calendar days after the date of USITC's publication of the public version of the report.

July 1, 2012: Effective date for any modifications that the President proclaims to the list of articles eligible for duty-free treatment under the GSP resulting from the 2011 Annual Product Review and for determinations related to CNL waivers.

SUPPLEMENTARY INFORMATION: The GSP program provides for the duty-free importation of designated articles when imported from designated beneficiary developing countries. The GSP program is authorized by Title V of the Trade Act of 1974 (19 U.S.C. 2461, et seq.), as amended (the “1974 Act”), and is implemented in accordance with Executive Order 11888 of November 24, 1975, as modified by subsequent Executive Orders and Presidential Proclamations.

Petitions Requesting Modifications of Product Eligibility

In a notice published in the Federal Register on November 1, 2011, USTR announced the initiation of the 2011 GSP Annual Review and indicated that the interagency GSP Subcommittee of the Trade Policy Staff Committee (TPSC) was prepared to receive petitions to modify the list of products that are eligible for duty-free treatment under the GSP program and petitions to waive CNLs on imports of certain products from specific beneficiary countries. On December 7, 2011, USTR announced that the deadline for the filing of such petitions had been extended to December 30, 2011 (76 FR 76477; see also 76 FR 67531).

The GSP Subcommittee of the TPSC has reviewed the product and CNL waiver petitions submitted in response to these announcements, and has decided to accept for review one petition to add a product to the list of those eligible for duty-free treatment under GSP and nine petitions to waive CNLs. Twelve cotton products will also be reviewed for possible designation as eligible for GSP benefits for least-developed country beneficiaries of the GSP program. The cotton products are being considered for GSP eligibility at the initiative of USTR consistent with USTR's December 2011 announcement of trade initiatives intended to enable least-developed countries to benefit more fully from global trade.

A list of all the petitions and products accepted for review is posted on the USTR Web site at http://www.ustr.gov/trade-topics/trade-development/preference-programs/generalized-system-preference-gsp/current-review-4 under the title “Petitions Accepted in the 2011 GSP Annual Product Review.” This list can also be found at www.regulations.gov in Docket Number USTR-2011-0015. No other petitions to modify the list of products eligible for duty-free treatment under GSP or to grant CNL waivers have been accepted for review. Acceptance of a petition for review does not indicate any opinion with respect to the disposition on the merits of the petition. Acceptance indicates only that the listed petitions have been found eligible for review by the TPSC and that such review will take place.

The GSP Subcommittee of the TPSC invites comments in support of or in opposition to any product or petition that has been accepted for the 2011 GSP Annual Product Review. The GSP Subcommittee of the TPSC will also convene a public hearing on these products and petitions. See below for information on how to submit a request to testify at this hearing.

Requirements for Submissions

Submissions in response to this notice (including requests to testify, written comments, and pre-hearing and post-hearing briefs), with the exception of business confidential submissions, must be submitted electronically by 5 p.m., Tuesday, March 6, 2012, or for post hearing briefs only by 5 p.m., Tuesday, April 10, 2012 using www.regulations.gov, docket number USTR-2011-0015. Instructions for submitting business confidential versions are provided below. Hand-delivered submissions will not be accepted. Submissions must be submitted in English to William D. Jackson, Chairman of the GSP Subcommittee, Trade Policy Staff Committee, by the applicable deadlines set forth in this notice.

All submissions for the GSP Annual Review must conform to the GSP regulations set forth at 15 CFR part 2007, except as modified below. These regulations are available on the USTR Web site at http://www.ustr.gov/trade-topics/trade-development/preference-programs/generalized-system-preference-gsp/gsp-program-inf. Any person or party making a submission is strongly advised to review the GSP regulations as well as the GSP Guidebook, which is available at the same link.

To make a submission using www.regulations.gov, enter docket number USTR-2011-0015 in the “Enter Keyword or ID” field on the home page and click “Search.” The site will provide a search-results page listing all documents associated with this docket. Find a reference to this notice by selecting “Notice” under “Document Type” in the top-middle section of the search-results page, and click on the link entitled “Submit a Comment” on the right-hand side of the page under the heading “Actions.” The www.regulations.gov Web site offers the option of providing comments by filling in a “Type Comment” field or by attaching a document using the “Upload file(s)” field. Given the detailed nature of the information sought by the GSP Subcommittee, it is preferred that submissions be provided in an attached document. When attaching a document, type (1) 2011 GSP Annual Product Review; (2) the product description, case number, and related Harmonized Tariff System (HTS) tariff number; (3) “See attached” in the “Type Comment” field on the online submission form, and indicate on the attachment whether the document is, as appropriate, “Written Comments,” “Notice of Intent to Testify,” “Pre-hearing brief,” or a “Post-hearing brief.” The product description, case number and HTS subheading number can be found in the document “Petitions Accepted in the 2011 GSP Annual Product Review,” which can be found on the USTR Web site at http://www.ustr.gov/trade-topics/trade-development/preference-programs/generalized-system-preference-gsp/current-review-4. Submissions should not exceed 30 single-spaced, standard letter-size pages in 12-point type, including attachments. Any data attachments to the submission should be included in the same file as the submission itself, and not as separate files.

Each submitter will receive a submission tracking number upon completion of the submissions procedure at http://www.regulations.gov. The tracking number will be the submitter's confirmation that the submission was received into http://www.regulations.gov. The confirmation should be kept for the submitter's records. USTR is not able to provide technical assistance for the Web site. Documents not submitted in accordance with these instructions may not be considered in this review. If unable to provide submissions as requested, please contact the GSP Program at USTR to arrange for an alternative method of transmission.

Business Confidential Submissions

A person seeking to request that information contained in a submission from that person be treated as business confidential information must certify that such information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the “Type Comment” field. Any submission containing business confidential information must be accompanied by a separate non-confidential version of the confidential submission, indicating where confidential information has been redacted. The non-confidential version will be placed in the docket and open to public inspection.

Notice of Public Hearing

The GSP Subcommittee of the TPSC will hold a hearing on Tuesday, March 20, 2012, on products and petitions accepted for the 2011 GSP Annual Review beginning at 9:30 a.m. at the Office of the U.S. Trade Representative, Rooms 1 and 2, 1724 F St. NW., Washington, DC 20508. The hearing will be open to the public, and a transcript of the hearing will be made available on www.regulations.gov within two weeks of the hearing. No electronic media coverage will be allowed.

All interested parties wishing to make an oral presentation at the hearing must submit, following the above “Requirements for Submissions”, the name, address, telephone number, and email address (if available), of the witness(es) representing their organization to William D. Jackson, Deputy Assistant U.S. Trade Representative for GSP by 5 p.m., Tuesday, March 6, 2012. Requests to present oral testimony in connection with the public hearing must be accompanied by a written brief or summary statement, in English, and also must be received by 5 p.m., Tuesday, March 6, 2012. Oral testimony before the GSP Subcommittee will be limited to five-minute presentations that summarize or supplement information contained in briefs or statements submitted for the record. Post-hearing briefs or statements will be accepted if they conform with the regulations cited above and are submitted, in English, by 5 p.m., Tuesday, April 10, 2012, following the “Requirements for Submissions” above. Parties not wishing to appear at the public hearing may submit pre-hearing briefs or statements, in English, by 5 p.m., Tuesday, March 6, 2012, and post-hearing written briefs or statements, in English, by 5 p.m., Tuesday, April 10, 2012, also in accordance with the “Requirements for Submissions” above. Public versions of all documents relating to the 2011 Annual Review will be made available for public viewing in docket USTR-2011-0015 at www.regulations.gov upon completion of processing and no later than one week after the due date.

Donnette R. Rimmer,
Director for the Generalized System of Preferences, Office of the U.S. Trade Representative.

[FR Doc. 2012-3974 Filed 2-17-12; 8:45 am]

BILLING CODE 3190-W2-P